DEPARTMENT OF TRANSPORTATION

Federal Transit Administration

[FTA Docket No. FTA-2008-0055 ]

Notice of Request for the Approval of a New Information Collection

AGENCY: Federal Transit Administration, DOT.

ACTION: Notice of request for comments.

SUMMARY: In accordance with the Paperwork Reduction Act of 1995, this notice announces the intention of the Federal Transit Administration (FTA) to request the Office of Management and Budget (OMB) to approve the following new information collection: Grant Accrual Surveys of FTA Grantees.

DATES: Comments must be submitted before February 17, 2009.

ADDRESSES: To ensure that your comments are not entered more than once into the docket, submit comments identified by the docket number by only one of the following methods:

1. Web site: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9 a.m. and 5 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE., Docket Operations, M-30, West Building, Ground Floor, Room W12-140, Washington, DC 20590-0001 between 9 a.m. and 5 p.m., Monday through Friday, except federal holidays.

FOR FURTHER INFORMATION CONTACT: Mr. Godwin Nwosu, FTA Office of Budget and Policy, (202) 366-9748, or e-mail: Godwin.Nwosu@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Grant Accrual Surveys of FTA Grantees.

(OMB Number: 2132-NEW).

Background: FTA administers over 40 programs which include Formula Grants, New Starts, Fixed Guideway Modernization and the Bus and Bus Facilities Program. FTA is required to estimate and record accrued liability and expenses in its financial statements for grant expenses incurred but not yet submitted to FTA for reimbursement by grantees. This is required by the Department of Transportation, Office of the Secretary, and the Federal Accounting Standards Advisory Board guidelines. The surveys covered in this request will provide FTA with a means to gather data directly from its grantees. The information obtained from the surveys will be used to assess how FTA estimates the amount owed its grantees at the end of each accounting period. FTA needs the survey information to meet the Chief Financial Officer's Act financial statement audit requirements. The surveys will be limited to data collections that solicit voluntary opinions and will not involve information that is required by regulations.

Respondents: FTA grantees.

Estimated Annual Burden on Respondents: 15 hours for each of the 50 respondents.

Estimated Total Annual Burden: 750 hours.

Frequency: Annual.

Issued: December 15, 2008.
Ann M. Linnertz,
Associate Administrator for Administration.

[FR Doc. E8-30165 Filed 12-18-08; 8:45 am]

BILLING CODE 4910-57-P